DEPARTMENT OF HOMELAND SECURITY

Coast Guard

33 CFR Parts 1, 64, 72, 81, 89, 100, 101, 104, 120, 135, 146, 148, 151, 153, 154, 155, 156, 157, 160, 164, and 165

[USCG-2006-25150]

RIN 1625-ZA08

Navigation and Navigable Waters; Technical, Organizational, and Conforming Amendments

AGENCY: Coast Guard, DHS.

ACTION: Final rule.

SUMMARY: This rule makes non-substantive changes throughout Title 33 of the Code of Federal Regulations. The purpose of this rule is to make conforming amendments and technical corrections to Coast Guard navigation and navigable water regulations. This rule will have no substantive effect on the regulated public.

DATES: This final rule is effective July 12, 2006.

ADDRESSES: Comments and material received from the public, as well as documents mentioned in this preamble as being available in the docket, are part of docket USCG-2006-25150 and are available for inspection or copying at the Docket Management Facility, U.S. Department of Transportation, room PL-401, 400 Seventh Street, SW., Washington, DC, between 9 a.m. and 5 p.m., Monday through Friday, except Federal holidays. You may also find this docket on the Internet at http://dms.dot.gov.

FOR FURTHER INFORMATION CONTACT: If you have questions on this rule, call Mr. Ray Davis, Coast Guard, telephone 202-372-1461. If you have questions on viewing the docket, call Ms. Renee V. Wright, Program Manager, Docket Operations, telephone 202-493-0402.

SUPPLEMENTARY INFORMATION:

Regulatory History

We did not publish a notice of proposed rulemaking (NPRM) for this regulation. Under both 5 U.S.C. 553(b)(A) and (b)(B), the Coast Guard finds that this rule is exempt from notice and comment rulemaking requirements because these changes involve agency organization and practices, and good cause exists for not publishing an NPRM for all revisions in the rule because they are all non-substantive changes. This rule consists only of corrections and editorial, organizational, and conforming amendments. These changes will have no substantive effect on the public; therefore, it is unnecessary to publish an NPRM. Under 5 U.S.C. 553(d)(3), the Coast Guard finds that, for the same reasons, good cause exists for making this rule effective less than 30 days after publication in the Federal Register.

Background and Purpose

Each year Title 33 of the Code of Federal Regulations is updated on July 1. This rule, which becomes effective July 12, 2006, makes other technical and editorial corrections throughout Title 33. This rule does not create any substantive requirements.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). We expect the economic impact of this rule to be so minimal that a full Regulatory Evaluation under the regulatory policies and procedures of DHS is unnecessary. As this rule involves internal agency practices and procedures and non-substantive changes, it will not impose any costs on the public.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule does not require a general NPRM and, therefore, is exempt from the requirements of the Regulatory Flexibility Act. Although this rule is exempt, we have reviewed it for potential economic impact on small entities.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in an expenditure of this magnitude, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(a) and (b), of the Instruction from further environmental documentation because this rule involves editorial, procedural, and internal agency functions. A final “Environmental Analysis Check List” and a final “Categorical Exclusion Determination” are available in the docket where indicated under ADDRESSES.

List of Subjects

33 CFR Part 1

Administrative practice and procedure, Authority delegations (Government agencies), Freedom of information, Penalties.

33 CFR Part 64

Navigation (water), Reporting and recordkeeping requirements.

33 CFR Part 72

Government publications, Navigation (water).

33 CFR Part 81

Navigation (water), Reporting and recordkeeping requirements, Treaties.

33 CFR Part 89

Navigation (water), Reporting and recordkeeping requirements, Waterways.

33 CFR Part 100

Marine safety, Navigation (water), Reporting and recordkeeping requirements, Waterways.

33 CFR Part 101

Harbors, Maritime security, Reporting and recordkeeping requirements, Security measures, Vessels, Waterways.

33 CFR Part 104

Maritime security, Reporting and recordkeeping requirements, Security measures, Vessels.

33 CFR Part 120

Passenger vessels, Reporting and recordkeeping requirements, Security measures, Terrorism.

33 CFR Part 135

Administrative practice and procedure, Continental shelf, Insurance, Oil pollution, Reporting and recordkeeping requirements.

33 CFR Part 146

Continental shelf, Marine safety, Occupational safety and health, Reporting and recordkeeping requirements, Vessels.

33 CFR Part 148

Administrative practice and procedure, Environmental protection, Harbors, Petroleum.

33 CFR Part 151

Administrative practice and procedure, Oil pollution, Penalties, Reporting and recordkeeping requirements, Water pollution control.

33 CFR Part 153

Hazardous substances, Oil pollution, Reporting and recordkeeping requirements, Water pollution control.

33 CFR Part 154

Alaska, Fire prevention, Hazardous substances, Oil pollution, Reporting and recordkeeping requirements.

33 CFR Part 155

Alaska, Hazardous substances, Oil pollution, Reporting and recordkeeping requirements.

33 CFR Part 156

Hazardous substances, Oil pollution, Reporting and recordkeeping requirements, Water pollution control.

33 CFR Part 157

Cargo vessels, Oil pollution, Reporting and recordkeeping requirements.

33 CFR Part 160

Administrative practice and procedure, Harbors, Hazardous materials transportation, Marine safety, Navigation (water), Reporting and recordkeeping requirements, Vessels, Waterways.

33 CFR Part 164

Marine safety, Navigation (water), Reporting and recordkeeping requirements, Waterways.

33 CFR Part 165

Harbors, Marine safety, Navigation (water), Reporting and recordkeeping requirements, Security measures, Waterways.

For the reasons discussed in the preamble, the Coast Guard amends 33 CFR parts 1, 64, 72, 81, 89, 100, 101, 104, 120, 135, 146, 148, 151, 153, 154, 155, 156, 157, 160, 164, and 165.

Title 33—Navigation and Navigable Waters

PART 1—GENERAL PROVISIONS

1. The authority citation for part 1 continues to read as follows:

Authority: 14 U.S.C. 633; 33 U.S.C. 401, 491, 525, 1321, 2716, and 2716a; 42 U.S.C. 9615; 49 U.S.C. 322; 49 CFR 1.45(b), 1.46; section 1.01-70 also issued under the authority of E.O. 12580, 3 CFR, 1987 Comp., p. 193; and sections 1.01-80 and 1.01-85 also issued under the authority of E.O. 12777, 3 CFR, 1991 Comp., p. 351.

§ 1.08-5 [Amended]

2. In paragraph (d), remove the reference “1.07-9” and add, in its place, “1.07-10”.

PART 64—MARKING OF STRUCTURES, SUNKEN VESSELS AND OTHER OBSTRUCTIONS

3. The authority citation for part 64 continues to read as follows:

Authority: 14 U.S.C. 633; 33 U.S.C. 409, 1231; 42 U.S.C. 9118; 43 U.S.C. 1333; Department of Homeland Security Delegation No. 0170.

§ 64.11 [Amended]

4. At the end of the section, remove the Note.

PART 72—MARINE INFORMATION

5. The authority citation for part 72 continues to read as follows:

Authority: 14 U.S.C. 85, 633; 43 U.S.C. 1333; Department of Homeland Security Delegation No. 0170.1.

§ 72.01-25 [Amended]

6. In § 72.01-25, paragraph (b), remove “202-521-2250” and add, in its place, “202-512-2104”.

§ 72.05-5 [Amended]

7. In § 72.05-5, remove “202-521-2250” and add, in its place, “202-512-2104”.

PART 81—72 COLREGS: IMPLEMENTING RULES

8. The authority citation for part 81 continues to read as follows:

Authority: 33 U.S.C. 1607; E.O. 11964; 49 CFR 1.46.

9. Revise the last sentence of § 81.3 to read as follows:

§ 81.3 General.

* * * The information collection and recordkeeping requirements in §§ 81.5 and 81.18 have been approved by the Office of Management and Budget under OMB control No. 1625-0019.

10. Revise the parenthetical at the end of § 81.5 to read as follows:

§ 81.5 Application for a Certificate of Alternative Compliance.

* * * * *

(Approved by the Office of Management and Budget under control number 1625-0019)

11. Revise the parenthetical at the end of § 81.18 to read as follows:

§ 81.18 Notice and record of certification of vessels of special construction or purpose.

* * * * *

(Approved by the Office of Management and Budget under control number 1625-0019)

PART 89—INLAND NAVIGATION RULES: IMPLEMENTING RULES

12. The authority citation for part 89 continues to read as follows:

Authority: 33 U.S.C. 2071; 49 CFR 1.46(n)(14).

13. Revise the last sentence of § 89.3 to read as follows:

§ 89.3 General.

* * * The information collection and recordkeeping requirements in §§ 89.5 and 89.18 have been approved by the Office of Management and Budget under OMB control No. 1625-0019.

PART 100—SAFETY OF LIFE ON NAVIGABLE WATERS

14. The authority citation for part 100 continues to read as follows:

Authority: 33 U.S.C. 1233; Department of Homeland Security Delegation No. 0170.

§ 100.519 [Amended]

15. In § 100.519 paragraph (a)(2), remove the word “Group” and add in its place, “SFO”.

§ 100.531 [Amended]

16. In § 100.531, in paragraph (a), in the definition of “Coast Guard Patrol Commander”, remove the word “Group” and add in its place, “SFO”.

17. In § 100.531, in paragraph (a), in the definition of “Official Patrol”, remove the word “Group” and add in its place, “SFO”.

PART 101—MARITIME SECURITY: GENERAL

18. The authority citation for part 101 continues to read as follows:

Authority: 33 U.S.C. 1226, 1231; 46 U.S.C. Chapter 701; 50 U.S.C. 191, 192; Executive Order 12656, 3 CFR 1988 Comp., p. 585; 33 CFR 1.05-1, 6.04-11, 6.14, 6.16, and 6.19; Department of Homeland Security Delegation No. 0170.1.

§ 101.305 [Amended]

19. In § 101.305, in paragraph (a), remove “202-267-2675, fax: 202-267-1322” and add, in its place, “202-372-2428; Fax: 202-372-2920”.

PART 104—MARITIME SECURITY: VESSELS

20. The authority citation for part 104 continues to read as follows:

Authority: 33 U.S.C. 1226, 1231; 46 U.S.C. Chapter 701; 50 U.S.C. 191; 33 CFR 1.05-1, 6.04-11, 6.14, 6.16, and 6.19; Department of Homeland Security Delegation No. 0170.1.

§ 104.115 Compliance.

21. In § 104.115—

a. Revise the section heading to read as set forth above;

b. In paragraph (a), remove “On July 1, 2004, and thereafter, vessel”, and add, in its place, “Vessel”.

c. Remove paragraph (b), and redesignate paragraph (c) as paragraph (b).

d. In newly designated paragraph (b), introductory text, remove “On July 1, 2004, and thereafter, owners” and add, in its place, “Owners”.

§ 104.205 [Amended]

22. In § 104.205, in paragraph (b)(1), remove “202-267-2675, fax: 202-267-1322” and add, in its place, “202-372-2428; Fax: 202-372-2920”.

PART 120—SECURITY OF PASSENGER VESSELS

23. The authority citation for part 120 continues to read as follows:

Authority: 33 U.S.C. 1231; Department of Homeland Security Delegation No. 0170.

§ 120.220 [Amended]

24. In § 120.220, in paragraph (a) remove “202-267-2675” and add, in its place, “202-372-2428; Fax: 202-372-2920”.

PART 135—OFFSHORE OIL POLLUTION COMPENSATION FUND

25. The authority citation for part 135 continues to read as follows:

Authority: 33 U.S.C. 2701-2719; E.O. 12777, 56 FR 54757; 49 CFR 1.46.

§ 135.305 [Amended]

26. In § 135.305(b), remove the words “Subpart C” and add in their place “Subpart B”.

PART 146—OPERATIONS

27. The authority citation for part 146 continues to read as follows:

Authority: 43 U.S.C. 1333(d)(1), 1348(c), 1356; 49 CFR 1.46.

28. Revise the parenthetical at the end of § 146.30 to read as follows:

§ 146.30 Notice of casualties.

* * * * *

(Approved by the Office of Management and Budget under control number 1625-0001)

29. Revise the parenthetical at the end of § 146.35 to read as follows:

§ 146.35 Written report of casualty.

* * * * *

(Approved by the Office of Management and Budget under control number 1625-0001)

30. Revise the parenthetical at the end of § 146.125 to read as follows:

§ 146.125 Emergency drills.

* * * * *

(Approved by the Office of Management and Budget under control number 1625-0018)

31. Revise the parenthetical at the end of § 146.303 to read as follows:

§ 146.303 Notice and written report of casualties.

* * * * *

(Approved by the Office of Management and Budget under control number 1625-0001)

PART 148—DEEPWATER PORTS: GENERAL

32. The authority citation for part 148 continues to read as follows:

Authority: 33 U.S.C. 1504; Department of Homeland Security Delegation No. 0170.1 (75).

§ 148.5 [Amended]

33. In § 148.5, in paragraph (3), of the definition for Administrator of the Maritime Administration, remove “202-366-4721” and add, in its place, “800-996-2723”.

PART 151—VESSELS CARRYING OIL, NOXIOUS LIQUID SUBSTANCES, GARBAGE, MUNICIPAL OR COMMERCIAL WASTE, AND BALLAST WATER

34. The authority citation for part 151 continues to read as follows:

Authority: 33 U.S.C. 1321 and 1903; Public Law 104-227 (110 Stat. 3034), E.O. 12777, 3 CFR, 1991 Comp. p. 351.

§ 151.09 [Amended]

35. In 151.09, in paragraph (a)(4), remove the reference “§ 2.05-10” and add, in its place, “§ 2.22(a)(2)”.

§ 151.15 [Amended]

36. In § 151.15, in paragraph (d)(2), remove “202-267-2675), fax number 202-479-7165” and add, in its place, “202-372-2428), fax number 202-372-2920”.

37. Revise the parenthetical at the end of § 151.19 to read as follows:

§ 151.19 International Oil Pollution Prevention (IOPP) Certificates.

* * * * *

(Approved by the Office of Management and Budget under control number 1625-0041)

38. Revise the parenthetical at the end of § 151.21 to read as follows:

§ 151.21 Ships of countries not party to MARPOL 73/78.

* * * * *

(Approved by the Office of Management and Budget under control number 1625-0019)

39. Revise the parenthetical at the end of § 151.25 to read as follows:

§ 151.25 Oil Record Book.

* * * * *

(Approved by the Office of Management and Budget under control number 1625-0009)

40. Revise the parenthetical at the end of § 151.57 to read as follows:

§ 151.57 Waste management plans.

* * * * *

(Approved by the Office of Management and Budget under control number 1625-0072)

PART 153—CONTROL OF POLLUTION BY OIL AND HAZARDOUS SUBSTANCES, DISCHARGE REMOVAL

41. The authority citation for part 153 continues to read as follows:

Authority: 14 U.S.C. 633; 33 U.S.C. 1321, 1903, 1908; 42 U.S.C. 9615; 46 U.S.C. 6101; E.O. 12580, 3 CFR, 1987 Comp., p. 193; E.O. 12777, 3 CFR, 1991 Comp., p. 351; Department of Homeland Security Delegation No. 0170.1.

§ 153.203 [Amended]

42. In § 153.203, remove “202-267-2675” and add, in its place, “202-372-2428; fax number 202-372-2920”.

PART 154—FACILITIES TRANSFERRING OIL OR HAZARDOUS MATERIAL IN BULK

43. The authority citation for part 154 continues to read as follows:

Authority: 33 U.S.C. 1231, 1321(j)(1)(C), (j)(5), (j)(6), and (m)(2); sec. 2, E.O. 12777, 56 FR 54757; Department of Homeland Security Delegation No. 0170.1. Subpart F is also issued under 33 U.S.C. 2735.

44. Revise the parenthetical at the end of § 154.310 to read as follows:

§ 154.310 Operations manual: Contents.

* * * * *

(Approved by the Office of Management and Budget under control number 1625-0093)

45. Revise the parenthetical at the end of § 154.740 to read as follows:

§ 154.740 Records.

* * * * *

(Approved by the Office of Management and Budget under control number 1625-0060)

46. Revise the parenthetical at the end of § 154.804 to read as follows:

§ 154.804 Review, certification, and initial inspection.

* * * * *

(Approved by the Office of Management and Budget under control number 1625-0060)

47. Revise the parenthetical at the end of § 154.806 to read as follows:

§ 154.806 Application for acceptance as a certifying entity.

* * * * *

(Approved by the Office of Management and Budget under control number 1625-0060)

PART 155—OIL OR HAZARDOUS MATERIAL POLLUTION PREVENTION REGULATIONS FOR VESSELS

48. The authority citation for part 155 continues to read as follows:

Authority: 33 U.S.C. 1231, 1321(j); E.O. 11735, 3 CFR, 1971-1975 Comp., p. 793. Sections 155.100 through 155.130, 150.350 through 155.400, 155.430, 155.440, 155.470, 155.1030(j) and (k), and 155.1065(g) are also issued under 33 U.S.C. 1903(b). Sections 155.480, 155.490, 155.750(e), and 155.775 are also issued under 46 U.S.C. 3703. Section 155.490 also issued under section 4110(b) of Public Law 101-380.

49. Revise the parenthetical at the end of § 155.370 to read as follows:

§ 155.370 Oily mixture (bilge slops)/fuel oil tank ballast water discharges on oceangoing ships of 10,000 gross tons and above and oceangoing ships of 400 gross tons and above that carry ballast water in their fuel oil tanks.

* * * * *

(Approved by the Office of Management and Budget under control number 1625-0009)

50. Revise the parenthetical at the end of § 155.440 to read as follows:

§ 155.440 Segregation of fuel oil and ballast water on new oceangoing ships of 4,000 gross tons and above, other than oil tankers, and on new oceangoing oil tankers of 150 gross tons and above.

* * * * *

(Approved by the Office of Management and Budget under control number 1625-0009)

51. Revise the parenthetical at the end of § 155.750 to read as follows:

§ 155.750 Contents of transfer procedures.

* * * * *

(Approved by the Office of Management and Budget under control number 1625-0030)

52. In Subpart D, revise the subpart heading to read “Tank Vessel Response Plans for Oil”.

PART 156—OIL AND HAZARDOUS MATERIAL TRANSFER OPERATIONS

53. The authority citation for part 156 continues to read as follows:

Authority: 33 U.S.C. 1231, 1321(j); 46 U.S.C. 3703a, 3715; E.O. 11735, 3 CFR 1971-1975 Comp., p. 793. Section 156.120(bb) and (ee) are also issued under 46 U.S.C. 3703.

54. Revise the parenthetical at the end of § 156.20 to read as follows:

§ 156.120 Requirements for transfer.

* * * * *

(Approved by the Office of Management and Budget under control number 1625-0039)

55. Revise the parenthetical at the end of § 156.170 to read as follows:

§ 156.170 Equipment tests and inspections.

* * * * *

(Approved by the Office of Management and Budget under control number 1625-0095)

PART 157—RULES FOR THE PROTECTION OF THE MARINE ENVIRONMENT RELATING TO TANK VESSELS CARRYING OIL IN BULK

56. The authority citation for part 157 continues to read as follows:

Authority: 33 U.S.C. 1903; 46 U.S.C. 3703, 3703a (note); 49 CFR 1.46. Subparts G, H, and I are also issued under section 4115(b), Public Law 101-380, 104 Stat. 520; Public Law 104-55, 109 Stat. 546.

57. Revise the parenthetical at the end of § 157.04 to read as follows:

§ 157.04 Authorization of classification societies.

* * * * *

(Reporting and Recordkeeping requirements approved by the Office of Management and Budget under control number 1625-0036)

58. Revise the parenthetical at the end of § 157.24a to read as follows:

§ 157.24a Submission of calculations, plans, and specifications for existing vessels installing segregated ballast tanks.

* * * * *

(Reporting and Recordkeeping requirements approved by the Office of Management and Budget under control number 1625-0036)

59. Revise the parenthetical at the end of § 157.37 to read as follows:

§ 157.37 Discharge of oily mixtures from oil cargoes.

* * * * *

(The information collection requirement contained in paragraph (d) of this section was approved by the Office of Management and Budget under control number 1625-0041)

60. Revise the parenthetical at the end of § 157.100 to read as follows:

§ 157.100 Plans for U.S. tank vessels: Submission.

* * * * *

(Reporting and Recordkeeping requirements approved by the Office of Management and Budget under control number 1625-0036)

61. Revise the parenthetical at the end of § 157.102 to read as follows:

§ 157.102 Plans for foreign tank vessels: Submission.

* * * * *

(Reporting and Recordkeeping requirements approved by the Office of Management and Budget under control number 1625-0036)

62. Revise the parenthetical at the end of § 157.108 to read as follows:

§ 157.108 Crude Oil Washing Operations and Equipment Manual for U.S. tank vessels: Submission.

* * * * *

(Reporting and Recordkeeping requirements approved by the Office of Management and Budget under control number 1625-0036)

63. Revise the parenthetical at the end of § 157.110 to read as follows:

§ 157.110 Crude Oil Washing Operations and Equipment Manual for foreign tank vessels: Submission.

* * * * *

(Reporting and Recordkeeping requirements approved by the Office of Management and Budget under control number 1625-0036)

64. Revise the parenthetical at the end of § 157.116 to read as follows:

§ 157.116 Required documents: U.S. tank vessels.

* * * * *

(Reporting and Recordkeeping requirements approved by the Office of Management and Budget under control number 1625-0036)

65. Revise the parenthetical at the end of § 157.118 to read as follows:

§ 157.118 Required documents: Foreign tank vessels.

* * * * *

(Reporting and Recordkeeping requirements approved by the Office of Management and Budget under control number 1625-0036)

66. Revise the parenthetical at the end of § 157.200 to read as follows:

§ 157.200 Plans for U.S. tank vessels: Submission.

* * * * *

(Reporting and Recordkeeping requirements approved by the Office of Management and Budget under control number 1625-0036>

67. Revise the parenthetical at the end of § 157.206 to read as follows:

§ 157.206 Dedicated Clean Ballast Tanks Operations Manual for U.S. tank vessels: Submission.

* * * * *

(Reporting and Recordkeeping requirements approved by the Office of Management and Budget under control number 1625-0036)

68. Revise the parenthetical at the end of § 157.208 to read as follows:

§ 157.208 Dedicated Clean Ballast Tanks Operations Manual for foreign tank vessels: Submission.

* * * * *

(Reporting and Recordkeeping requirements approved by the Office of Management and Budget under control number 1625-0036)

69. Revise the parenthetical at the end of § 157.214 to read as follows:

§ 157.214 Required documents: U.S. tank vessels.

* * * * *

(Reporting and Recordkeeping requirements approved by the Office of Management and Budget under control number 1625-0036)

70. Revise the parenthetical at the end of § 157.216 to read as follows:

§ 157.216 Required documents: Foreign tank vessels.

* * * * *

(Reporting and Recordkeeping requirements approved by the Office of Management and Budget under control number 1625-0036)

PART 160—PORTS AND WATERWAYS SAFETY—GENERAL

71. The authority citation for part 160 continues to read as follows:

Authority: 33 U.S.C. 1223, 1231; 46 U.S.C. Chapter 701; Department of Homeland Security Delegation No. 0170.1. Subpart C is also issued under the authority of 33 U.S.C. 1225 and 46 U.S.C. 3715.

72. In § 160.7—

a. Redesignate paragraphs (c) and (d) as paragraphs (d) and (e);

b. Amend paragraph (b) by removing the reference “paragraph (d) of this section”, and adding a reference “paragraph (e) of this section” in its place;

c. Add a new paragraph (c); and

d. Revise newly designated paragraph (d); as follows:

§ 160.7 Appeals.

* * * * *

(c) Any person directly affected by the establishment of a safety zone or by an order or direction issued by, or on behalf of, a District Commander may appeal to the Area Commander through the District Commander. The appeal must be in writing, except as allowed under paragraph (e) of this section, and shall contain complete supporting documentation and evidence which the appellant wishes to have considered. Upon receipt of the appeal, the Area Commander may direct a representative to gather and submit documentation or other evidence which would be necessary or helpful to a resolution of the appeal. A copy of this documentation and evidence is made available to the appellant. The appellant is afforded five working days from the date of receipt to submit rebuttal materials. Following submission of all materials, the Area Commander issues a ruling, in writing, on the appeal. Prior to issuing the ruling, the Area Commander may, as a matter of discretion, allow oral presentation on the issues.

(d) Any person directly affected by the establishment of a safety zone or by an order or direction issued by an Area Commander, or who receives an unfavorable ruling on an appeal taken under paragraph (b) of this section, may appeal through the Area Commander to the Assistant Commandant for Marine Safety, Security and Environmental Protection, U.S. Coast Guard, Washington, DC 20593. The appeal must be in writing, except as allowed under paragraph (e) of this section. The Area Commander forwards the appeal, all the documents and evidence which formed the record upon which the order or direction was issued or the ruling under paragraph (b) of this section was made, and any comments which might be relevant, to the Assistant Commandant for Marine Safety, Security and Environmental Protection. A copy of this documentation and evidence is made available to the appellant. The appellant is afforded five working days from the date of receipt to submit rebuttal materials to the Assistant Commandant for Marine Safety, Security and Environmental Protection. The decision of the Assistant Commandant for Marine Safety, Security and Environmental Protection is based upon the materials submitted, without oral argument or presentation. The decision of the Assistant Commandant for Marine Safety, Security and Environmental Protection is issued in writing and constitutes final agency action.

* * * * *

PART 164—NAVIGATION SAFETY REGULATIONS

73. The authority citation for part 164 continues to read as follows:

Authority: 33 U.S.C. 1222(5), 1223, 1231; 46 U.S.C. 2103, 3703; Department of Homeland Security Delegation No. 0170.1 (75). Sec. 164.13 also issued under 46 U.S.C. 8502. Sec. 164.61 also issued under 46 U.S.C. 6101.

§ 164.15 [Amended]

74. In § 164.15, paragraph(a)(1), remove the word “hip” and add, in its place “ship”.

PART 165—REGULATED NAVIGATION AREAS AND LIMITED ACCESS AREAS

75. The authority citation for part 165 continues to read as follows:

Authority: 33 U.S.C. 1226, 1231; 46 U.S.C. Chapter 701; 50 U.S.C. 191, 195; 33 CFR 1.05-1(g), 6.04-1, 6.04-6, and 160.5; Public Law 107-295, 116 Stat. 2064; Department of Homeland Security Delegation No. 0170.1.

76. In § 165.5, remove the parenthetical after paragraph (b)(6) and add a new parenthetical at the end of the section to read as follows:

§ 165.5 Establishment procedures.

* * * * *

(Requests for safety zones, security zones, and regulated navigation areas are approved by the Office of Management and Budget under control number 1625-0020)

77. Revise § 165.501 (d)(9)(iv) as set out below:

§ 165.501 Chesapeake Bay entrance and Hampton Roads, VA and adjacent waters—Regulated Navigation Area.

* * * * *

(d) * * *

(9) * * *

(iv) The designated representative of the Captain of the Port is the Sector Command Center (SCC)—Joint Harbor Operations Center (JHOC) which shall be contacted on VHF-FM channel 12, or by calling (757) 668-5555.

* * * * *

Dated: July 6, 2006.
Stefan G. Venckus,
Chief, Office of Regulations and Administrative Law, United States Coast Guard.

[FR Doc. E6-10890 Filed 7-11-06; 8:45 am]

BILLING CODE 4910-15-P